DEPARTMENT OF TRANSPORTATION

Coast Guard

33 CFR Part 110

[CGD09-01-122]

RIN 2115-AA98

Special Anchorage Area; Henderson Harbor, NY

AGENCY: Coast Guard, DOT.

ACTION: Request for comments.

SUMMARY: The purpose of this document is to provide an additional opportunity to submit comments on the appropriate size of the Henderson Harbor Special Anchorage Area. The Coast Guard originally requested comments for 90 days starting on January 2, 2002. The Coast Guard has determined that additional comments will be helpful in determining the appropriate size of the Henderson Harbor Special Anchorage Area.

DATES: Comments must be received by July 22, 2002.

ADDRESSES: You may mail comments to Commander (map), Ninth Coast Guard District, 1240 E. Ninth Street, Cleveland, Ohio 44199-2060, or deliver them to room 2069 at the same address between 9 a.m. and 2 p.m., Monday through Friday, except Federal holidays.

The Ninth Coast Guard District Marine Safety Office maintains the public docket for this rulemaking. Comments, and documents indicated in this preamble, will become part of this docket and will be available for inspection or copying at room 2069, Ninth Coast Guard District, between 9 a.m. and 2 p.m., Monday through Friday, except Federal holidays.

FOR FURTHER INFORMATION CONTACT: Commander Michael Gardiner, Chief, Marine Safety Analysis and Policy Branch, Ninth Coast Guard District Marine Safety Office, at (216) 902-6056.

SUPPLEMENTARY INFORMATION:

Request for Comments

The Coast Guard encourages interested persons to submit comments on the appropriate size of the special anchorage area. Persons submitting comments should include their names and addresses, identify this docket (CGD09-01-122) and the specific section of this document to which each comment applies, and give the reason for each comment. Please submit all comments and attachments in an unbound format, no larger than 8½ by 11 inches, suitable for copying and electronic filing. Persons wanting acknowledgment of receipt of comments should enclose stamped, self-addressed postcards or envelopes.

Background Information

On March 7, 2000, the Coast Guard published a final rule extending the southern most special anchorage area approximately 1000 feet while keeping the width approximately the same (65 FR 11892). The Harbormaster had requested that the anchorage area be extended to compensate for the loss of safe anchorage area due to lower water levels. Since vessels must request permission from the Henderson Harbor Town Harbormaster before anchoring or mooring in the special anchorage area, the additional area gave the Town Harbormaster increased deepwater areas in which to direct vessels for safe anchorage.

The Coast Guard has received letters and requests from members of the community, as well as town leaders, indicating that they would like to see the anchorage area revert back to the previous smaller size. In response, on January 2, 2002, the Coast Guard published a request for comments (67 FR 17). Before taking any possible action, the Coast Guard would like to solicit additional comments from those affected by the Henderson Harbor Special Anchorage Area. The Coast Guard would like to get these comments within 45 days of the date of this publication so that they may be considered in conjunction with observing vessel traffic and the physical conditions within Henderson Harbor. After reviewing both the comments and the physical aspects of Henderson Harbor, the Coast Guard will determine if a change is appropriate.

Persons submitting comments should do as directed under Request for Comments, and reply to the following specific suggested anchorage areas. Form letters simply citing anecdotal evidence or stating support for or opposition to regulations, without providing substantive data or arguments do not supply support for regulations. The following two options are being considered:

1. Continue to use current enlarged Anchorage Area.

(a) Area A. The area in the southern portion of Henderson Harbor west of the Henderson Harbor Yacht Club bounded by a line beginning at 43°51′08.8″ N, 76°12′08.9″ W, thence to 43°51′09.0″ N, 76°12′19.0″ W, thence to 43°51′33.4″ N, 76°12′19.0″ W, thence to 43°51′33.4″ N, 76°12′09.6″ W, thence to the point of the beginning. These coordinates are based upon North American Datum 1983 (NAD 83).

(b) Area B. The area in the southern portion of Henderson Harbor north of Graham Creek Entrance Light bounded by a line beginning at 43°51′21.8″ N, 76°11′58.2″ W, thence to 43°51′21.7″ N, 76°12′05.5″ W, thence to 43°51′33.4″ N, 76°12′06.2″ W, thence to 43°51′33.6″ N, 76°12′00.8″ W, thence to the point of the beginning. All nautical positions are based on North American Datum 1983 (NAD 83).

2. Revert Anchorage Area A back to previous smaller size.

(a) Area A. The area in the southern portion of Henderson Harbor west of the Henderson Harbor Yacht club bounded by a line beginning at 43°51′08.8″ N, 76°12′08.9″ W, thence to 43°51′09.0″ N, 76°12′19.0″ W, thence to 43°51′23.8″ N, 76°12′19.0″ W, thence to 43°51′23.8″ N, 76°12′09.6″ W, and then back to the beginning. These coordinates are based upon North American Datum 1983 (NAD 83).

(b) Area B. The area in the southern portion of Henderson Harbor north of Graham Creek Entrance Light bounded by a line beginning at 43°51′21.8″ N, 76°11′58.2″ W, thence to 43°51′21.7″ N, 76°12′05.5″ W, thence to 43°51′33.4″ N, 76°12′06.2″ W, thence to 43°51′33.6″ N, 76°12′00.8″ W, thence to the point of the beginning. All nautical positions are based on North American Datum 1983 (NAD 83).

Kurt A. Carlson,
Captain, Coast Guard, Acting Commander, Ninth Coast Guard District.

[FR Doc. 02-14056 Filed 6-4-02; 8:45 am]

BILLING CODE 4910-15-P